DEPARTMENT OF LABOR

Employment and Training Administration

[NAFTA-05663]

Exide Technologies, Transportation Global Business Unit, Shreveport, Louisiana; Notice of Affirmative Determination Regarding Application for Reconsideration

By letter of June 28, 2002 the International Union, UAW, Region 5 and Local Union 1532 requested administrative reconsideration of the Department of Labor's Notice of Negative Determination Regarding Eligibility to Apply for NAFTA Transitional Adjustment Assistance. The denial notice was signed on May 16, 2002 and published in the Federal Register on June 4, 2002 (67 FR 38522).

The petitioner supplied a list of additional customers they believe should be surveyed, since they feel the Department did not survey the correct customers for the relevant period. On further review, the Department will conduct a survey of these customers to determine if imports contributed importantly to the declines in employment at the subject plant.

Conclusion

After careful review of the application, I conclude that the claim is of sufficient weight to justify reconsideration of the Department of Labor's prior decision. The application is, therefore, granted.

Signed at Washington, DC, this 12th day of August, 2002.
Edward A. Tomchick,
Director, Division of Trade Adjustment Assistance.

[FR Doc. 02-21100 Filed 8-19-02; 8:45 am]

BILLING CODE 4510-30-P